INTERNATIONAL TRADE COMMISSION

[USITC SE-16-030]

Sunshine Act Meeting

Agency Holding The Meeting: United States International Trade Commission.

Time and Date: September 2, 2016 at 11 a.m.

Place: Room 101, 500 E Street SW., Washington, DC 20436, Telephone: (202) 205-2000.

Status: Open to the public.

Matters to be Considered: 1. Agendas for future meetings: None.

2. Minutes.

3. Ratification List.

4. Vote in Inv. Nos. 731-TA-1334-1337 (Preliminary) (Emulsion Styrene-Butadiene Rubber from Brazil, Korea, Mexico, and Poland). The Commission is currently scheduled to complete and file its determinations on September 6, 2016; views of the Commission are currently scheduled to be completed and filed on September 13, 2016.

5. Vote in Inv. Nos. 701-TA-540 and 542-544 and 731-TA-1283, 1285, 1287 and 1289-1290 (Final) (Cold-Rolled Steel Flat Products from Brazil, India, Korea, Russia, and the United Kingdom). The Commission is currently scheduled to complete and file its determinations and views of the Commission on September 12, 2016.

6. Outstanding action jackets: None.

In accordance with Commission policy, subject matter listed above, not disposed of at the scheduled meeting, may be carried over to the agenda of the following meeting.

By order of the Commission.
Issued: August 25, 2016.
William R. Bishop,
Supervisory Hearings and Information Officer.

[FR Doc. 2016-20903 Filed 8-26-16; 11:15 am]

BILLING CODE 7020-02-P